DEPARTMENT OF ENERGY

Federal Energy Regulatory Commission

Combined Notice of Filings

Take notice that the Commission has received the following Natural Gas Pipeline Rate and Refund Report filings:

Docket Number: PR20-67-000.

Applicants: Gulf Coast Express Pipeline LLC.

Description: Tariff filing per 284.123(b),(e)+(g): Estimated Fuel Adjustment to be effective 7/1/2020 under PR20-67.

Filed Date: 6/25/2020.

Accession Number: 202006255085.

Comments Due: 5 p.m. ET 7/16/2020.

284.123(g) Protests Due: 5 p.m. ET 8/24/2020.

Docket Numbers: RP20-966-000.

Applicants: Algonquin Gas Transmission, LLC.

Description: § 4(d) Rate Filing: Negotiated Rates—Bay State to UGI Energy to be effective 7/1/2020.

Filed Date: 6/25/20.

Accession Number: 20200625-5032.

Comments Due: 5 p.m. ET 7/7/20.

Docket Numbers: RP20-967-000.

Applicants: NEXUS Gas Transmission, LLC.

Description: § 4(d) Rate Filing: Tariff Revisions—Contracting for Service to be effective 8/1/2020.

Filed Date: 6/25/20.

Accession Number: 20200625-5035.

Comments Due: 5 p.m. ET 7/7/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 26, 2020.
Nathaniel J. Davis, Sr.,
Deputy Secretary.

[FR Doc. 2020-14275 Filed 7-1-20; 8:45 am]

BILLING CODE 6717-01-P